DEPARTMENT OF EDUCATION

Notice of Proposed Collection Requests; Comment Request

AGENCY: Department of Education.

ACTION: Correction notice.

SUMMARY: On April 21, 2014, the U.S. Department of Education published a 30-day comment period notice in the Federal Register (Page 22107, Column 1) seeking public comment for an information collection entitled, “Race to the Top—District Annual Performance Report.” This notice has been withdrawn. A new 30-day notice will be published.

The Director, Information Collection Clearance Division, Privacy, Information and Records Management Services, Office of Management, hereby issues a correction notice as required by the Paperwork Reduction Act of 1995.

Dated: May 2, 2014.
Stephanie Valentine,
Acting Director, Information Collection Clearance Division, Privacy, Information and Records Management Services, Office of Management.

[FR Doc. 2014-10417 Filed 5-6-14; 8:45 am]

BILLING CODE 4000-01-P